DEPARTMENT OF VETERANS AFFAIRS

Veteran's Disability Benefits Commission; Notice of Meeting

The Department of Veterans Affairs (VA) gives notice under Public Law 92-463 (Federal Advisory Committee Act) that the Veterans' Disability Benefits Commission has scheduled a meeting for January 18-19, 2007, at the Hotel Washington, 15th Street and Pennsylvania Avenue, NW., Washington, DC. The meeting will begin at 8 a.m. each day and end at 5:15 p.m. on January 18 and 3 p.m. on January 19. The meeting is open to the public.

The purpose of the Commission is to carry out a study of the benefits under the laws of the United States that are provided to compensate and assist veterans and their survivors for disabilities and deaths attributable to military service.

The agenda for the meeting will include updates on the progress of the studies being conducted by the Center for Naval Analyses (CNA) and the Insititue of Medicine (IOM). CNA will include an overview and discussion with Commissioners regarding its research and analyses of Individual Unemployability and Program Operations. VA will provide a public response to IOM's request for documents and information related to IOM's research on behalf of the Commission. In addition to providing a summary of the overall status of Issue Papers addressing specific Research Questions, Commission staff will also facilitate the presentation and discussion of new or revised Issue Papers at various stages of development. (Research Questions approved by the Commission on October 14, 2005, are available upon request or please visit the Commission's Web site at http://www.vetscommission.org.)

On January 19, there will be time set aside for the Commission to receive comments from veteran and military service organizations and interested members of the public on three topics related to specific Research Questions. The three topics will be: Line of Duty (Research Question 13); Character of Discharge (Research Question 23); and Concurrent Receipt (Research Question 21).

Interested persons may present oral statements to the Commission on January 19. Oral presentations will be limited to five minutes or less, depending on the number of participants. Interested parties may also provide written comments for review by the Commission prior to the meeting or at any time, by e-mail to veterans@vetscommission.com or by mail to Mr. Ray Wilburn, Executive Director, Veterans' Disability Benefits Commission, 1101 Pennsylvania Avenue, NW., 5th Floor, Washington, DC 20004.

Dated: December 27, 2006.
By Direction of the Secretary.
E. Philip Riggin,
Committee Management Officer.

[FR Doc. 06-9985 Filed 1-4-07; 8:45 am]

BILLING CODE 8320-01-M